DEPARTMENT OF HOMELAND SECURITY

Federal Emergency Management Agency

44 CFR Part 67

[Docket ID FEMA-2008-0020; Internal Agency Docket No. FEMA-B-1068]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 14, 2009.

ADDRESSES: The corresponding preliminary Flood Insurance Rate Map (FIRM) for the proposed BFEs for each community is available for inspection at the community's map repository. The respective addresses are listed in the table below.

You may submit comments, identified by Docket No. FEMA-B-1068, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Franklin County, Arkansas, and Incorporated Areas
Flooding Effects of Arkansas River into a previous shaded X zone downstream of the confluence of White Oak Creek | Approximately 682 feet downstream of the Missouri Pacific Railroad | None | +382 | Unincorporated Areas of Franklin County.
| Just downstream of the Missouri Pacific Railroad | None | +382
Flooding effects of the Arkansas River into a previous shaded X zone downstream of the confluence of White Oak Creek | Approximately 0.5 miles downstream of the Missouri Pacific Railroad | None | +381 | Unincorporated Areas of Franklin County.
| Just downstream of the Missouri Pacific Railroad | None | +381
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Franklin County
Maps are available for inspection at 211 West Commercial Street, Ozark, AR 72949.
Marshall County, Illinois, and Incorporated Areas
Illinois River | Approximately 0.57 miles downstream of Illinois State Highway 18 | None | +461 | City of Henry.
| Approximately 0.69 miles upstream of Illinois State Highway 18 | None | +461
Illinois River | Approximately 0.73 miles downstream of Illinois State Highway 17 | None | +461 | City of Lacon.
| Approximately 0.83 miles upstream of Illinois State Highway 17 | None | +461
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Henry
Maps are available for inspection at City Hall, 426 East Park Row, Henry, IL 61537.
City of Lacon
Maps are available for inspection at City Hall, 406 5th Street, Lacon, IL 61540.
Cass County, Iowa, and Incorporated Areas
Baughmans Creek | Just upstream of 540th Street | None | +1,091 | Unincorporated Areas of Cass County.
| Approximately 900 feet downstream of Adair Street | None | +1,098
| Approximately 400 feet downstream of Main Street | None | +1,103
| Approximately 650 feet upstream of Main Street | None | +1,106
East Nishnabotna River | Just upstream of Jasper Road | None | +1,136 | Unincorporated Areas of Cass County.
| Just downstream of the confluence with Troublesome Creek | None | +1,154
Troublesome Creek | Just upstream of the confluence with East Nishnabotna River | None | +1,154 | Unincorporated Areas of Cass County.
| Just upstream of Olive Street | None | +1,154
| Approximately 0.4 miles upstream of 635th Street | None | +1,163
| Approximately 0.5 miles upstream of 635th Street | None | +1,163
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Cass County
Maps are available for inspection at 5 West 7th Street, Atlantic, IA 50022.
Natchitoches Parish, Louisiana, and Incorporated Areas
Bayou Jacko | Just upstream of Lafayette Street | None | +110 | Unincorporated Areas of Natchitoches Parish.
| Approximately 200 feet upstream of Bowena Street | None | +124
Bayou Julien Tributary | Approximately 725 feet upstream of State Highway 478 | None | +107 | Unincorporated Areas of Natchitoches Parish.
| Just downstream of Fairgrounds Road | None | +114
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Natchitoches Parish
Maps are available for inspection at the Police Jury, 200 Church Street, Natchitoches, LA 71457.
Winston County, Mississippi, and Incorporated Areas
Hughes Creek | Approximately 1,193 feet upstream from the confluence of Stream 2 | None | +487 | Unincorporated Areas of Winston County.
| Approximately 1,534 feet upstream from the confluence of Stream 2 | None | +488
Stream 1 | Approximately 96 feet downstream of Files Road | None | +497 | Unincorporated Areas of Winston County.
| Approximately 222 feet upstream of Files Road | None | +498
Stream 2 | Approximately 1,079 feet upstream from the confluence of Hughes Creek | None | +484 | Unincorporated Areas of Winston County.
| Approximately 1,380 feet upstream from the confluence of Hughes Creek | None | +485
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Winston County
Maps are available for inspection at the County Courthouse, 115 West Main Street, Louisville, MS 39339.
Adair County, Oklahoma, and Incorporated Areas
8th Street Tributary | At the confluence of Caney Creek and 8th Street Tributary | None | +1,055 | Unincorporated Areas of Adair County, City of Stilwell.
| Just downstream of 8th Street | None | +1,069
Caney Creek | Approximately 1,926 feet downstream of the 4696 Road | None | +977 | Unincorporated Areas of Adair County, City of Stilwell.
| Just upstream of Oklahoma Street | +1,111 | +1,118
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Stilwell
Maps are available for inspection at 503 West Division Street, City Clerk's Office, Stilwell, OK 74960.
Unincorporated Areas of Adair County
Maps are available for inspection at Commissioners Office, 2nd and Division Street, Stilwell, OK 74960.
Perry County, Tennessee, and Incorporated Areas
Tennessee River | Approximately 15 miles downstream of U.S. Highway 412 | None | +375 | Unincorporated Areas of Perry County.
| Approximately 18.2 miles upstream of U.S. Highway 412 | None | +386
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Perry County
Maps are available for inspection at 121 East Main Street, Linden, TN 37096.
Hill County, Texas, and Incorporated Areas
Hackberry Creek | Approximately 1,000 feet downstream of Tributary of Hackberry Creek | None | +557 | Unincorporated Areas of Hill County.
| Just upstream of confluence with Little Hackberry Creek | None | +563
Little Hackberry Creek | At the confluence of Hackberry Creek | None | +563 | Unincorporated Areas of Hill County.
| Approximately 1,500 feet upstream of confluence with Pecan Creek | None | +568
Pecan Creek | At the confluence of Little Hackberry Creek | None | +568 | Unincorporated Areas of Hill County.
| Just upstream of State Highway 171 | None | +579
Stream WC-1A | Approximately 850 feet upstream of State Highway Spur 180 | None | +587 | Unincorporated Areas of Hill County.
| Approximately 750 feet downstream of County Road 1244 | None | +597
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Hill County
Maps are available for inspection at the Hill County Courthouse, 201 East Franklin Street, Hillsboro, TX 76645.
Upshur County, Texas, and Incorporated Areas
Victory Branch | Approximately 680 feet downstream of Salt Water Road | None | +315 | Unincorporated Areas of Upshur County.
| Approximately 650 feet downstream of Salt Water Road | None | +315
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Upshur County
Maps are available for inspection at the County Courthouse, 100 West Tyler Street, Gilmer, TX 75644.

(Catalog of Federal Domestic Assistance No. 97.022, “Flood Insurance.”)

Edward L. Connor,
Acting Assistant Administrator for Mitigation, Mitigation Directorate, Department of Homeland Security, Federal Emergency Management Agency.

[FR Doc. E9-22112 Filed 9-14-09; 8:45 am]

BILLING CODE 9110-12-P